DEPARTMENT OF TRANSPORTATION

Federal Aviation Administration

Notice of Intent To Request Approval From the Office of Management and Budget (OMB) for a New Public Collection of Information for Data Collection To Be Used for the Update of Two Advisory Circulars

AGENCY: Federal Aviation Administration (FAA), (DOT).

ACTION: Notice.

SUMMARY: In compliance with the Paperwork Reduction Act (44 U.S.C. 3501 et seq.), the FAA invites public comment on a new public information collection which will be submitted to OMB for approval.

DATES: Comments must be submitted on or before February 26, 2001.

ADDRESSES: Comments may be mailed or delivered to FAA, at the following address: Ms. Judith Street, Room 613, Federal Aviation Administration, Standards and Information Division, APF-100, 800 Independence Avenue, SW., Washington, DC 20591.

FOR FURTHER INFORMATION CONTACT: Ms. Judith Street, at the above address or on (202) 267-9895.

SUPPLEMENTARY INFORMATION: The FAA solicits comments on the following new collection of information in order to evaluate the necessity of the collection, the accuracy of the agency's estimate of burden, the quality, utility, and clarity of the information to be collected, and possible ways to minimize the burden of collection. The following is a synopsis of the information collection activity which will be submitted to OMB for review and approval:

The FAA published Advisory Circulars (AC) 36-1G, Noise Levels for U.S. Certificated and Foreign Aircraft,” and 36-3G, Estimated Airplane Noise Levels in A-Weighted Decibels in August 1997 and April 1996 respectively. AC 36-1G contains a list of the aircraft noise certification levels. As this AC represents the only publicly available compilation of certificated aircraft noise levels, AC 36-1G is widely used within the aviation industry for various purposes, including determination of compliance with local airport noise restrictions and for various aircraft noise related studies. AC 36-3G contains a list of estimated airplane noise levels in units of a-weighted sound level in decibels (dBA). The users of AC 36-3G include several airport authorities, e.g., Ronald Reagan Washington National Airport, the utilize the noise level information in AC 36-3G to determine compliance with local airport noise restrictions.

The FAA proposes to collect current data from aircraft manufacturer's (or modifiers) to update the two AC's. The following will be the method used. First, a draft revision to AC 36-1G and AC 36-3G containing information that resides within the FAA will be produced. The draft AC's will then be sent to each aircraft manufacturer and modifier advising them that the Advisory Circulars are being updated and asking them to (1) review the draft AC's for consistency with the aircraft manufacturer's (or modifier's) records, and (2) provide any additions or corrections to the information in the draft AC's.

If the collection were not conducted, the revised Advisory Circulars would be published using only the noise level information that the FAA has on hand. This would leave the possibility that a manufacturer(s) may find inconsistencies (including additional aircraft not in the revised AC's) between its data and the published revisions to AC 36-1G and AC 36-3G.

The respondents and burden estimate are as follows: We estimate 50 respondents including U.S. and non-U.S. aircraft manufacturers/modifiers. Out of the 50, 5 respondents will take approximately 40 hours each to provide the information. The remaining 45 respondents will take approximately 15 hours. The difference in burden is due to the different number of airplane models manufactured by the various respondents. Our estimated total burden is 875 hours.

It is also noted that an agency may not conduct or sponsor, and a person is not required to respond to, a collection of information unless it displays a currently valid OMB control number. When assigned by OMB, the respondents will be notified of the control number.

Issued in Washington, DC on December 21, 2000.
Steve Hopkins,
Manager, Standards and Information Division, APF-100.

[FR Doc. 00-33183 Filed 12-27-00; 8:45 am]

BILLING CODE 4910-13-M